DEPARTMENT OF THE TREASURY

Customs Service

19 CFR Parts 10, 12, 19, 103, 111, 112, 143, 146, 178, and 191

[T.D. 01-14]

Technical Amendments to the Customs Regulations

AGENCY: Customs Service, Treasury.

ACTION: Final rule.

SUMMARY: This document amends the Customs Regulations by correcting various referencing and typographical errors, and by making certain editorial changes to improve the clarity of the regulations. None of these technical corrections involve changes in substantive legal requirements.

EFFECTIVE DATE: February 2, 2001.

FOR FURTHER INFORMATION CONTACT: Greg Rogers, Investigative Services, Office of Investigations, (202) 927-0525; or Mike Craig, Chief, Broker Management Program, Office of Field Operations, (202) 927-1684.

SUPPLEMENTARY INFORMATION:

Background

It is Customs policy to periodically review its regulations to ensure that they are as accurate and up-to-date as possible, so that the importing and general public are aware of Customs programs, requirements, and procedures regarding import-related activities. As part of this review policy, Customs has determined that certain changes affecting parts 10, 12, 19, 103, 111, 112, 143, 146, 178, and 191 of the Customs Regulations (19 CFR parts 10, 12, 19, 103, 111, 112, 143, 146, 178, and 191) are necessary to correct referencing and typographical errors, or to improve the clarity of the regulations. Following is a summary of these changes:

Discussion of Changes

Fingerprint Form References

In T.D. 93-18 (published in the Federal Register on March 24, 1993, at 58 FR 15770), Customs amended several sections of the Customs Regulations (19 CFR chapter I) to clarify Customs position regarding the submission of fingerprints when individuals apply for certain occupations or request various identification cards necessitating a fingerprint records check. Six sections of the Customs Regulations that pertain to employment or licensing matters were amended; five specifying that a particular fingerprinting form was to be used to collect the fingerprints. The Standard Form (SF) 87 fingerprint form was specified at §§ 19.2(f), 111.12(a), 112.42, and § 146.6(a) of the Customs Regulations (19 CFR 19.2(f), 111.12(a), 112.42, and 146.6(a)), and the form FD 258 fingerprint form was specified at § 122.182(d). It has come to Customs attention that designating the SF 87 for fingerprinting purposes at §§ 19.2(f), 111.12(a), 112.42, and § 146.6(a) is in error. This document corrects those errors and explains the reason different forms are used to collect fingerprints.

The government uses different fingerprint forms for different purposes. The Federal Bureau of Investigation, which processes all requests for fingerprint information, uses different form numbers and color codes of forms based on the reason the background check is to be performed. The FD 258 is used for background checks for a non-government position, such as when the government provides a license to a private party. The SF 87 is used when a background check is required for Federal employment or a security clearance.

The provisions of § 19.2(f) pertain to an application for a Customs warehouse bond. The provisions of § 111.12(a) pertain to an application for a Customs broker's license. The provisions of § 112.42 pertain to an application for an identification card for a licensed cartman or lighterman. The provisions of § 146.6(a) pertain to an application to activate a foreign trade zone. None of these provisions pertain to Federal employment or to a security clearance. Thus, the use of the FD 258, and not the SF 87, is appropriate. Accordingly, the references at §§ 19.2(f), 111.12(a), 112.42, and § 146.6(a) to the SF 87 will be replaced by a reference to the FD 258. Also, because Customs is beginning to collect fingerprints electronically at certain locations, a proviso allowing for electronic fingerprints will also be added to these sections.

Environmental Protection Agency (EPA) Requirements

Section 12.73 of the Customs Regulations (19 CFR 12.73) pertains to motor vehicle and engine compliance with Federal antipollution emission requirements. Paragraph (d) of this section pertains to when individuals and businesses must import certain motor vehicles through an independent commercial importer (ICI). This provision was amended in T.D. 88-40 ostensibly to provide that only ICIs with valid Environmental Protection Agency (EPA) certificates of conformity could import nonconforming vehicles or engines. Individuals or businesses who previously could import nonconforming vehicles or engines are now required to arrange for such importations through an ICI certificate holder. However, the regulatory text adopted was overbroad in its reach and provided, in relevant part, that “* * * an individual or business * * * may not enter a motor vehicle to which EPA emission requirements apply.” (Emphasis supplied.) The language is changed in this paragraph to clarify that individuals or businesses may import vehicles into the United States that conform with EPA emission requirements and that ICIs are required only if the vehicles do not conform to EPA requirements.

Section 12.74 of the Customs Regulations (19 CFR 12.74) pertains to nonroad engine compliance with Federal antipollution emission requirements. Paragraph (b)(2) of this section pertains to the retention and submission of records to Customs. The paragraph references § 162.1c of the Customs Regulations. In T.D. 98-56 (63 FR 32946) Customs amended the recordkeeping requirements formerly contained in part 162 by creating a new part 163. Record retention requirements are now set forth in § 163.4. This document corrects the reference in § 12.74(b)(2).

Customs Brokers Permits

Section 111.19 of the Customs Regulations (19 CFR 111.19), as amended by T.D. 00-17, published in the Federal Register on March 15, 2000 (65 FR 13880), discusses both district permits and national permits for Customs brokers. At paragraph (e) of this section a reference is made to an application for “a permit”. It is unclear in this paragraph whether the reference is to a district permit or a national permit. This document clarifies that the paragraph relates to a district permit.

Miscellaneous Referencing and Typographical Errors

In § 10.31, the third sentence of paragraph (a)(1) is supposed to be the last sentence of that paragraph; however, a period was inadvertently placed after a reference to a Customs Form description, instead of a comma, effectively making the remaining text a fourth sentence. The punctuation error is now corrected.

In § 103.31, the third sentence of paragraph (e) makes reference to § 103.14(d). Section 103.14 was redesignated as § 103.31 in T.D. 96-36. Customs inadvertently failed to conform the reference within the sentence to the redesignated § 103.31. Accordingly, the reference in § 103.31 to § 103.14(d) is now corrected.

Section 143.1(a) references a definition for Customs brokers at § 111.1(b). Because of the publication of T.D. 00-17 discussed above, there are no longer lettered paragraphs at § 111.1; the words and phrases defined are merely listed alphabetically. Accordingly, the reference in § 143.1(a) to the definition for Customs brokers at § 111.1(b) is corrected to read § 111.1.

Section 178.2 describes Customs information collections and lists the control numbers assigned by the Office of Management and Budget for these information collections. The entry for § 103.14 is in error, because this provision was redesignated as § 103.31 in T.D. 96-36. Accordingly, the reference in § 178.2 to § 103.14 is corrected to read § 103.31.

Section 191.51 pertains to the completion of drawback claims. In T.D. 98-16, paragraph (b) of this section was amended to provide how drawback claims are to be correctly calculated. The third sentence of this revision was meant to be parenthetical, i.e., providing an example of how to correctly calculate the substance of the second sentence. However, the closing parenthesis was mistakenly placed after the fourth sentence, which has a different substance than the second sentence. This typographical error is corrected by removing the closing parenthesis from the end of the fourth sentence and relocating it to the end of the third sentence.

Inapplicability of Public Notice and Comment Requirements, Delayed Effective Date Requirements, the Regulatory Flexibility Act, and Executive Order 12866

Because these regulatory amendments merely correct various referencing and typographical errors and make certain editorial changes to improve the clarity of the regulations, pursuant to 5 U.S.C. 553(b)(B), notice and public procedure are unnecessary and contrary to public interest. For the same reasons, the requirement for a delayed effective date also does not apply, pursuant to 5 U.S.C. 553(d)(3). Further, because this document is not subject to 5 U.S.C. 553, it is not subject to the provisions of the Regulatory Flexibility Act, 5 U.S.C. 601 et seq. These amendments do not meet the criteria for a “significant regulatory action”, as specified in E.O. 12866.

Drafting Information

The principal author of this document was Gregory R. Vilders, Attorney, Office of Regulations and Rulings, Regulations Branch.

List of Subjects

19 CFR Part 10

Bonds, Customs duties and inspection, Entry requirements, Imports, Reporting and recordkeeping requirements.

19 CFR Part 12

Air pollution control, Customs duties and inspection, Entry requirements, Imports, Reporting and recordkeeping requirements, Restricted merchandise, Vehicles.

19 CFR Part 19

Customs duties and inspection, Licensing, Reporting and recordkeeping requirements, Warehouses.

19 CFR Part 103

Administrative practice and procedure, Confidential business information, Freedom of information, Privacy, Reporting and recordkeeping requirements.

19 CFR Part 111

Administrative practice and procedure, Brokers, Customs duties and inspection, Licensing, Reporting and recordkeeping requirements.

19 CFR Part 112

Administrative practice and procedure, Customs duties and inspection, Freight forwarders, Licensing, Reporting and recordkeeping requirements.

19 CFR Part 143

Customs duties and inspection, Imports, Reporting and recordkeeping requirements.

19 CFR Part 146

Administrative practice and procedure, Customs duties and inspection, Foreign trade zones, Reporting and recordkeeping requirements.

19 CFR Part 178

Administrative practice and procedure, Collection of information, Paperwork requirements, Reporting and recordkeeping requirements.

19 CFR Part 191

Administrative practice and procedure, Customs duties and inspection, Drawback, Reporting and recordkeeping requirements.

Amendments to the Regulations

Parts 10, 12, 19, 103, 111, 112, 143, 146, 178, and 191, Customs Regulations (19 CFR parts 10, 12, 19, 103, 111, 112, 143, 146, 178, and 191), are amended as set forth below:

PART 10—ARTICLES CONDITIONALLY FREE, SUBJECT TO A REDUCED RATE, ETC.

1. The general authority citation for part 10 continues to read as follows:

Authority: 5 U.S.C. 301; 19 U.S.C. 66, 1202 (General Note 22, Harmonized Tariff Schedule of the United States (HTSUS)), 1321, 1481, 1484, 1498, 1508, 1623, 1624, 3314;

* * * * *

§ 10.31 [Amended]

2. In § 10.31, paragraph (a)(1) is amended by removing the period at the end of the third sentence and adding, in its place, a comma.

PART 12—SPECIAL CLASSES OF MERCHANDISE

1. The general authority citation for part 12 and the specific authority for sections 12.73 and 12.74 continue to read as follows:

Authority: 5 U.S.C. 301; 19 U.S.C. 66, 1202 (General Note 22, Harmonized Tariff Schedule of the United States (HTSUS)), 1624;

* * * * *

Sections 12.73 and 12.74 also issued under 19 U.S.C. 1484; 42 U.S.C. 7522, 7601;

§ 12.73 [Amended]

2. In § 12.73, paragraph (d) is amended by removing the words “to which EPA emission requirements apply” and adding, in their place, the words “which does not conform with EPA emission requirements”.

§ 12.74 [Amended]

3. In § 12.74, paragraph (b)(2) is amended by removing the reference “§ 162.1c” and adding, in its place, the reference “§ 163.4”.

PART 19—CUSTOMS WAREHOUSES, CONTAINER STATIONS AND CONTROL OF MERCHANDISE THEREIN

1. The general authority citation for part 19 continues to read as follows:

Authority: 5 U.S.C. 301; 19 U.S.C. 66, 1202 (General Note 22, Harmonized Tariff Schedule of the United States), 1624;

* * * * *

§ 19.2 [Amended]

2. In § 19.2, paragraph (f) is amended at the second sentence by removing the words “Standard Form 87” wherever they appear and adding, in their place, the words “form FD 258 or electronically “.

PART 103—AVAILABILITY OF INFORMATION

1. The general authority citation for part 103 continues to read as follows:

Authority: 5 U.S.C. 301, 552, 552a; 19 U.S.C. 66, 1624; 31 U.S.C. 9701.

* * * * *

§ 103.31 [Amended]

2. In § 103.31, paragraph (e)(1) is amended at the third sentence by removing the reference “§ 103.14(d)” and adding, in its place, the reference “paragraph (d) of this section”.

PART 111—CUSTOMS BROKERS

1. The general authority citation for part 111 continues to read as follows:

Authority: 19 U.S.C. 66, 1202 (General Note 22, Harmonized Tariff Schedule of the United States), 1624, 1641;

§ 111.12 [Amended]

2. In § 111.12, paragraph (a) is amended at the sixth sentence by removing the words “Standard Form 87” and adding, in their place, the words “form FD 258 or electronically”.

§ 111.19 [Amended]

3. In § 111.19, paragraph (e) is amended by adding the word “district” before the word “permit” wherever it appears.

PART 112—CARRIERS, CARTMEN, AND LIGHTERMEN

1. The authority citation for part 112 continues to read as follows:

Authority: 19 U.S.C. 66, 1551, 1565, 1623, 1624.

§ 112.42 [Amended]

2. Section 112.42 is amended at the second sentence by removing the words “Standard Form 87” and adding, in their place, the words “form FD 258 or electronically”.

PART 143—SPECIAL ENTRY PROCEDURES

1. The authority citation for part 143 continues to read as follows:

Authority: 19 U.S.C. 66, 1481, 1484, 1498, 1624.

§ 143.1 [Amended]

2. In § 143.1, paragraph (a) is amended by removing the reference “§ 111.1(b)” and adding, in its place, the reference “§ 111.1”.

PART 146—FOREIGN TRADE ZONES

1. The authority citation for part 146 continues to read as follows:

Authority: 19 U.S.C. 66, 81a-81u, 1202 (General Note 22, Harmonized Tariff Schedule of the United States), 1623, 1624.

§ 146.6 [Amended]

2. In § 146.6, paragraph (a) is amended at the fourth sentence by removing the words “Standard Form 87” and adding, in their place, the words “form FD 258 or electronically”.

PART 178—APPROVAL OF INFORMATION COLLECTION REQUIREMENTS

1. The authority citation for part 178 continues to read as follows:

Authority: 5 U.S.C. 301; 19 U.S.C. 1624; 44 U.S.C. 3501 et seq.

§ 178.2 [Amended]

2. In § 178.2, in the “19 CFR Section” column the section number “§ 103.14” is removed and the section number “§ 103.31” is added in its place.

PART 191—DRAWBACK

1. The general authority citation for part 191 continues to read as follows:

Authority: 5 U.S.C. 301; 19 U.S.C. 66, 1202 (General Note 22, Harmonized Tariff Schedule of the United States), 1313, 1624;

* * * * *

2. In § 191.51, paragraph (b) is revised to read as follows:

§ 191.51 Completion of drawback claims.

* * * * *

(b) Drawback due. Drawback claimants are required to correctly calculate the amount of drawback due. The amount of drawback requested on the drawback entry is generally to be 99 percent of the import duties eligible for drawback. (For example, if $1,000 in import duties are eligible for drawback less 1 percent ($10), the amount claimed on the drawback entry should be for $990.) Claims exceeding 99 percent (or 100% when 100% of the duty is available for drawback) will not be paid until the calculations have been corrected by the claimant. Claims for less than 99 percent (or 100% when 100% of the duty is available for drawback) will be paid as filed, unless the claimant amends the claim in accordance with § 191.52(c).

* * * * *

Raymond W. Kelly,
Commissioner of Customs.
Approved: January 8, 2001.
Timothy E. Skud,
Acting Deputy Assistant Secretary of the Treasury.

[FR Doc. 01-2784 Filed 2-1-01; 8:45 am]

BILLING CODE 4820-02-P